DEPARTMENT OF THE TREASURY

Office of the Comptroller of the Currency

[Docket No. 06-13]

Privacy Act of 1974; Altered System of Records

AGENCY: Office of the Comptroller of the Currency, Treasury.

ACTION: Notice of alteration to a Privacy Act System of Records.

SUMMARY: In accordance with the requirements of the Privacy Act of 1974, as amended, the Office of the Comptroller of the Currency (OCC) is altering its system of records Treasury/Comptroller .600—Consumer Complaint and Inquiry Information System.

DATES: Comments must be received no later than November 17, 2006. The proposed altered systems will become effective November 27, 2006, unless the OCC receives comments which would result in a contrary determination.

ADDRESSES: You should include OCC and Docket Number 06-13 in your comment. You may submit comments by any of the following methods:

OCC Web Site: http://www.occ.treas.gov. Click on “Contact the OCC,” scroll down and click on “Comments on Proposed Regulations.”

E-mail address: regs.comments@occ.treas.gov.

Fax: (202) 874-4448.

Mail: Office of the Comptroller of the Currency, 250 E Street, SW., Mail Stop 1-5, Washington, DC 20219.

Hand Delivery/Courier: 250 E Street, SW., Attn: Public Information Room, Mail Stop 1-5, Washington, DC 20219.

Instructions: All submissions received must include the agency name (OCC) and docket number for this notice. In general, OCC will enter all comments received into the docket without change, including any business or personal information that you provide. You may review comments and other related materials by any of the following methods:

Viewing Comments Personally: You may personally inspect and photocopy comments at the OCC's Public Information Room, 250 E Street, SW., Washington, DC. You can make an appointment to inspect comments by calling (202) 874-5043.

Viewing Comments Electronically: You may request e-mail or CD-ROM copies of comments that the OCC has received by contacting the OCC's Public Information Room at regs.comments@occ.treas.gov.

Docket: You may also request available background documents and project summaries using the methods described above.

FOR FURTHER INFORMATION CONTACT: Frank Vance, Jr., Disclosure Officer, Communications Division, (202) 874-4700, or Harold J. Hansen, Senior Counsel, Administrative and Internal Law Division, (202) 874-4460.

SUPPLEMENTARY INFORMATION: The system notice for the Consumer Complaint and Inquiry Information System was last published in its entirety in the Federal Register on July 11, 2005, at 70 FR 39853.

At present, the sixth routine use of records maintained in this system provides for the disclosure of complaint and inquiry information to “[a] Congressional office when the information is relevant to an inquiry made at the request of the individual about whom the record is maintained.” While continuing to authorize these disclosures, the proposed amendment or alteration of this routine use would extend this authority to the making of comparable disclosures to governmental or tribal organizations that have referred complaints and inquiries to the OCC on behalf of individuals who have sought these organizations' assistance with respect to OCC-regulated entities. An additional routine use would authorize disclosures to governmental or tribal organizations when such an organization is in communication with the OCC concerning a complaint or inquiry it has received concerning the actions of an OCC-regulated entity. These uses of information maintained in this system are consistent with the OCC's Customer Assistance Program in that these disclosures will facilitate and enhance the receipt of public sector assistance by individuals in resolving their complaints and inquiries regarding concerning the actions of OCC-regulated entities.

As required by 5 U.S.C. 552a(r) and Appendix I to OMB Circular A-130, “Federal Agency Responsibilities for Maintaining Records About Individuals,” dated November 30, 2000, a report of an altered system of records has been submitted to the Committee on Government Reform of the House of Representatives, the Committee on Homeland Security and Governmental Affairs of the Senate, and the Office of Management and Budget.

For the above reasons, the OCC proposes to alter its system of records notice by revising routine use (6), redesignating routine uses (7) and (8) as, respectively, (8) and (9), and adding a new routine use (7) as set forth below:

Treasury/Comptroller .600

SYSTEM NAME:

Consumer Complaint and Inquiry Information System.

* * * * *

Routine uses of records maintained in the system, including categories of users and the purposes of such uses:

* * * * *

Description of change: Remove the current routine uses (6), (7) and (8) and in their place add the revised and new routine uses (6), (7), (8) and (9) to read as follows:

“(6) A Congressional office or appropriate governmental or tribal organization when the information is relevant to a complaint or inquiry referred to the OCC by that office or organization on behalf of the individual about whom the information is maintained;

(7) An appropriate governmental or tribal organization in communication with the OCC about a complaint or inquiry the organization has received concerning the actions of an OCC-regulated entity. Information that may be disclosed under this routine use will ordinarily consist of a description of the conclusion made by the OCC concerning the actions of such an entity and the corrective action taken, if any;

(8) A contractor or agent who needs to have access to this system of records to perform an assigned activity; or

(9) Third parties when mandated or authorized by statute.”

* * * * *

Dated: October 10, 2006.
Sandra L. Pack,
Assistant Secretary for Management and Chief Financial Officer.

[FR Doc. E6-17300 Filed 10-17-06; 8:45 am]

BILLING CODE 4810-33-P